SECURITIES AND EXCHANGE COMMISSION

[OMB Control No. 3235-0316]

Agency Information Collection Activities; Proposed Collection; Comment Request; Extension: Form N-3

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (the “Commission”) is soliciting comments on the collection of information summarized below. The Commission plans to submit this existing collection of information to the Office of Management and Budget for extension and approval.

The title for the collection of information is “Form N-3 (17 CFR 239.17a and 274.11b) under the Securities Act of 1933 (15 U.S.C. 77) and under the Investment Company Act of 1940 (15 U.S.C. 80a), Registration Statement of Separate Accounts Organized as Management Investment Companies.” Form N-3 is the form used by separate accounts offering variable annuity contracts which are organized as management investment companies to register under the Investment Company Act of 1940 (“Investment Company Act”) and/or to register their securities under the Securities Act of 1933 (“Securities Act”). Form N-3 is also the form used to file a registration statement under the Securities Act (and any amendments thereto) for variable annuity contracts funded by separate accounts which would be required to be registered under the Investment Company Act as management investment companies except for the exclusion provided by Section 3(c)(11) of the Investment Company Act (15 U.S.C. 80a-3(c)(11)). Section 5 of the Securities Act (15 U.S.C. 77e) requires the filing of a registration statement prior to the offer of securities to the public and that the statement be effective before any securities are sold, and Section 8 of the Investment Company Act (15 U.S.C. 80a-8) requires a separate account to register as an investment company.

Form N-3 also permits separate accounts offering variable annuity contracts which are organized as investment companies to provide investors with a prospectus and a statement of additional information covering essential information about the separate account when it makes an initial or additional offering of its securities. Section 5(b) of the Securities Act requires that investors be provided with a prospectus containing the information required in a registration statement prior to the sale or at the time of confirmation or delivery of the securities. The form also may be used by the Commission in its regulatory review, inspection, and policy-making roles.

We estimate that the hour burden for the initial registration statement on Form N-3 is 926.4 hours per initial registration statement filings. We estimate that 1 initial registration statement will be filed on Form N-3 in the next 3 years, resulting in a 309 annual hour burden for initial registration statement filings (926.4 hours ÷ 3 years = 309 annual hour burden). In addition, we estimate that there are currently 3 insurer separate accounts that file post-effective amendments on Form N-3 per year, with an average of 3 investment options per post-effective amendment). We estimate that the current hour burden per post-effective amendment is 157.55 hours, resulting in an hour burden of 1,418 for post effective-amendments on Form N-3 (that is, 157.55 × 4 investment options per post-effective amendment × 3 post-effective amendments = 1,418 hours). In total, we estimate an aggregate hour burden of 1,727 hours (309 hours for the initial registration statement + 1,418 hours for the post-effective amendments = 1,727 hours). Respondents may rely on outside counsel or auditors in connection with the preparation and filing of Form N-3. Commission staff estimates that the annual cost burden associated with preparing and filing Form N-3 is $125,376.

The information collection requirements imposed by Form N-3 are mandatory. Responses to the collection of information will not be kept confidential.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by March 24, 2026. There will be a second opportunity to comment on this SEC request following the Federal Register publishing a 30-Day Submission Notice.

Dated: January 20, 2026.
Sherry R. Haywood,
Assistant Secretary.

[FR Doc. 2026-01212 Filed 1-22-26; 8:45 am]

BILLING CODE 8011-01-P